DEPARTMENT OF AGRICULTURE

Office of the Assistant Secretary for Civil Rights

Notice of Request for Approval of a New Information Collection

AGENCY: Office of the Assistant Secretary for Civil Rights, United States Department of Agriculture (USDA).

ACTION: Notice and request for comments.

SUMMARY: In accordance with the Paperwork Reduction Act of 1995 (44 U.S.C. Chapter 35), this notice announces the Office of the Assistant Secretary for Civil Rights' intention to request approval for a new information collection for the USDA Independent Assessment of the Delivery of Technical and Financial Assistance.

DATES: Comments on this notice must be received by April 23, 2010 to be assured of consideration.

ADDITIONAL INFORMATION OR COMMENTS: Contact Stacy Porto, Esq., Office of the Assistant Secretary for Civil Rights, U.S. Department of Agriculture, 1400 Independence Ave., SW., Mail Stop 0115, Washington, DC 20250; Fax: (202) 690-1782; E-mail: stacy.porto@osec.usda.gov.

SUPPLEMENTARY INFORMATION: Title: USDA Independent Assessment of the Delivery of Technical and Financial Assistance.

OMB Number: 0503-New.

Expiration Date of Approval: Three years from approval date.

Type of Request: New information collection.

Abstract: USDA is interested in conducting an independent assessment of the delivery of programs of technical and financial assistance by certain agencies noted above. The project will examine USDA's program delivery at the State and local levels. The purpose of this project is to assess the effectiveness of USDA's programs in reaching America's diverse population in a non-discriminatory manner. This study will identify barriers to equal and fair access for USDA customers and provide recommendations to assist the Secretary of Agriculture in transforming USDA into a model organization.

As part of this assessment of the laws, regulations, policies, practices, and results achieved in administering key programs administered by four entities within USDA [the Farm Service Agency (FSA), the Rural Development (RD) mission area, the Natural Resources Conservation Service (NRCS), and the Risk Management Agency (RMA)], actual program delivery will be reviewed. The activities to be undertaken subject to this notice include:

• Conducting multi-modal (e.g. paper, Web, and telephone) survey of approximately 21,400 USDA customers and potential customers.

• Conducting in-depth in-person interviews with a sub-sample of up to 100 USDA customers.

• Conducting an impact analysis.

These activities are described below:

• Multi-modal Survey. Surveys will be administered to potential customers and customers who applied for FSA, RD, NRCS, or RMA financial or technical programs, including those for commodities, credit, conservation, disaster relief, and any providing for grants or loans, (as authorized by Congress in 84 Counties across 14 States. A sample of 21,400 customers including African American, Hispanic, American Indian, Alaska Native, Asian Pacific Islanders, persons with disabilities, or women farm and ranch operators will be drawn from USDA databases.

• In-depth Interviews. After the surveys are completed, a sub-sample will be drawn from among the customers who completed the surveys and up to 100 in-depth interviews will be conducted to delve deeper into the experiences of the customers about the process of application and services they received.

• Impact Analysis. Actual practices, and results, including those at USDA Headquarters, agency Headquarters, State/Regional/Local USDA and State/County areas will be analyzed. The use of statistical data (such as the percent of low-resource farmers participating in a specific loan program); the findings and conclusions of internal and external reports on USDA civil rights; other sources, such as the existing minority/female farmer lawsuits, and advocacy organizations will be determined under this task.

Estimate of Burden: Public reporting burden for this collection of information is estimated to average twenty (20) minutes per Self Administered Survey (paper or Web)/Telephone Survey response and two (2) hours per in-depth interview response. See Table 1 below.

Type of Respondents: Individuals or households.

Estimated Number of Respondents: Out of 21,400 USDA customers and potential customers to be surveyed, 15,100 respondents, (15,000 respondents for the Self Administered Survey/Telephone Survey and 100 respondents for the in-depth interview) are expected to respond.

Estimated Number of Responses: 15,100.

Estimated Number of Responses per Respondent: 1.

Estimated Total Annual Burden on Respondents: 5,200 hours.

Data collection activity | Respondents | Annual frequency per response | Estimated number of respondents | Estimated burden per respondent (minutes) | Total burden estimate (hours)
Self administered survey/Telephone survey | USDA customers and potential customers | 1 | 15,000 | 20 | 5,000
In depth interviews | USDA customers and potential customers | 1 | 100 | 120 | 200
Total |  |  | 15,100 |  | 5,200

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All comments received will be available for public inspection during regular business hours at the same address.

All responses to this notice will be summarized and included in the request for the Office of Management and Budget approval. All comments will become a matter of public record.

Dated: February 8, 2010.
Joe Leonard, Jr.,
Assistant Secretary for Civil Rights, United States Department of Agriculture.

[FR Doc. 2010-3359 Filed 2-19-10; 8:45 am]

BILLING CODE P